DEPARTMENT OF ENERGY

Federal Energy Regulatory Commission

[Docket No. RM07-16-000]

Notice of Format Change for Combined Notices; Filing Via the Internet

The purpose of this notice is to announce that the Commission will use a new format for Combined Notices (CNF) coming in early August 2021. The format will change to include a single table for each section of the combined notice for electric filings and two tables for the combined notice for natural gas filings, one for filings initiating proceedings and one for filings in existing proceedings, as shown in the examples below. This allows alignments which improve the readability of the document.

Beginning in August, the links displayed in these combined notices will include the following:

Docket Number Link: Links to the Docket List page.

Description Link: Links to the File List page. On the File List page, you can generate the FERC PDF, download single files, or download all files for the document.

Accession Number Link: Links to the Document Info page.

Also, the Combined Notices will include additional filing types, in particular complaints.

Examples

Electric CNF

Take notice that the Commission received the following electric corporate filings:

Docket Numbers: EC21-1-000.

Applicants: VRP Energy Storage, LLC.

Description: Ventura Energy Storage, LLC submits Notice of Consummation of Transaction.

Filed Date: 5/19/21.

Accession Number: 20210519-5111.

Comment Date: 5 p.m. ET 6/9/21.

Take notice that the Commission received the following exempt wholesale generator filings:

Docket Numbers: EG21-1-000.

Applicants: NOP Renewables Americas, LLC.

Description: Self-Certification of EWG for Hickory Park Solar, LLC.

Filed Date: 5/19/21.

Accession Number: 20210519-5090.

Comment Date: 5 p.m. ET 6/9/21.

Take notice that the Commission received the following electric rate filings:

Docket Numbers: ER21-100-000.

Applicants: ABC Electric Power Company.

Description: Compliance filing: ABC Energy Station 1, LLC submits tariff filing per 35: Revised Rate Schedule FERC No. 1 to be effective 12/1/2020.

Filed Date: 1/6/21.

Accession Number: 20210106-5021.

Comment Date: 5 p.m. ET 1/27/21.

Gas CNF

Filings Instituting Proceedings

Docket Numbers: RP21-100-000.

Applicants: GEF Pipeline LLC.

Description: § 4(d) Rate Filing: Updated Negotiated Rate PAL Agreements—February 2021 to be effective 5/10/2021.

Filed Date: 4/9/21.

Accession Number: 20210409-5065.

Comment Date: 5 p.m. ET 4/21/21.

Filings in Existing Proceedings

Docket Numbers: RP21-200-001.

Applicants: JLK Company of America LLC.

Description: Tariff Amendment: Amendment Filing to a Negotiated Rate Agreement—Sempra Gas & Power to be effective 4/1/2021.

Filed Date: 4/8/21.

Accession Number: 20210408-5290.

Comment Date: 5 p.m. ET 4/20/21.

Dated: July 13, 2021.
Kimberly D. Bose,
Secretary.

[FR Doc. 2021-15401 Filed 7-19-21; 8:45 am]

BILLING CODE 6717-01-P